FEDERAL COMMUNICATIONS COMMISSION

47 CFR Part 73

[DA 16-690; MB Docket No. 15-167; RM-11751]

Radio Broadcasting Services; Grant, Oklahoma

AGENCY: Federal Communications Commission.

ACTION: Proposed rule; Dismissal.

SUMMARY: At the request of the petitioner, Katherine Pyeatt, this Report and Order dismisses the proposed allotment of FM Channel 286A at Grant, Oklahoma, File No. BNPH-20141029ACJ, and terminates the proceeding. It also dismisses, as requested by Southeast Oklahoma Radio LLC (SOR), the SOR counterproposal for station KTMC-FM, McAlester, Oklahoma, File No. BPH-20150831ABE. Furthermore, the Report and Order grants the proposed upgraded facility filed by Liberman Broadcasting of Dallas LLC (Liberman) for Station KZMP-FM, Channel 285C0, Pilot Point, Texas, File No. BPH-20141028AAK and approves the Liberman-Pyeatt Reimbursement Agreement.

FOR FURTHER INFORMATION CONTACT: Adrienne Y. Denysyk, Media Bureau, (202) 418-2700.

SUPPLEMENTARY INFORMATION: This is a synopsis of the Commission's Report and Order, MB Docket No. 15-167, adopted June 16, 2016, and released June 17, 2016. The full text of this Commission decision is available for inspection and copying during normal business hours in the FCC's Reference Information Center at Portals II, CY-A257, 445 12th Street SW., Washington, DC 20554. The full text is also available online at http://apps.fcc.gov/ecfs/. This document does not contain information collection requirements subject to the Paperwork Reduction Act of 1995, Public Law 104-13.

Federal Communications Commission.
Nazifa Sawez,
Assistant Chief, Audio Division, Media Bureau.

[FR Doc. 2016-14936 Filed 6-23-16; 8:45 am]

BILLING CODE 6712-01-P